LEGAL SERVICES CORPORATION

Notice to LSC Grantees of Application Process for Midyear Subgrants of 2018 Basic Field Grant Funds

AGENCY: Legal Services Corporation.

ACTION: Notice of application dates and format for applications for approval of 2018 Basic Field Grant midyear subgrants.

SUMMARY: The Legal Services Corporation (LSC) is the national organization charged with administering Federal funds provided for civil legal services to low-income people. LSC hereby announces the submission dates for applications for subgrants of Basic Field Grant funds starting after June 1, 2018 but before January 1, 2019. LSC is also providing information about where applicants may locate subgrant application forms and directions for providing the information required to apply for a subgrant.

DATES: See Supplementary Information section for application dates.

ADDRESSES: Legal Services Corporation—Office of Compliance and Enforcement, 3333 K Street NW, Third Floor, Washington, DC 20007-3522.

FOR FURTHER INFORMATION CONTACT: Megan Lacchini, Office of Compliance and Enforcement by email at lacchinim@lsc.gov, or visit the LSC website at http://www.lsc.gov/grants-grantee-resources/grantee-guidance/how-apply-subgrant.

SUPPLEMENTARY INFORMATION: Under 45 CFR part 1627, LSC must publish, on an annual basis, “notice of the requirements concerning the format and contents of the application annually in the Federal Register and on its website.” 45 CFR 1627.4(b). This Notice and the publication of the Subgrant Application Forms on LSC's website satisfy § 1627.4(b)'s notice requirement for midyear subgrants of Basic Field Grant funds. Only current or prospective recipients of LSC Basic Field Grants may apply for approval of a subgrant. Notices regarding the process to apply for approval of 2018 Pro Bono Innovation Fund and Technology Initiative Grant subgrants will be forthcoming.

Applications for approval to subgrant 2018 Basic Field Grant funds with starting dates between June 1, 2018 and January 1, 2019, must be submitted at least 45 days in advance of the proposed effective date. 45 CFR 1627.4(b)(3).

Subgrant applications must be submitted through LSC Grants at https://lscgrants.lsc.gov. Applicants may access the application under the “Subgrants” heading on their LSC Grants home page. Applicants may initiate an application by selecting “Initiate Subgrant Application.” Applicants must then provide the information requested in the LSC Grants data fields, located in the Subrecipient Profile, Subgrant Summary, and Subrecipient Budget screens, and upload the following documents:

• A draft Subgrant Agreement (with the required terms provided in Subgrant Application Template); and

• Subgrant Inquiry Form B (for new subgrants) or C (for renewal subgrants).

Applicants seeking to subgrant to an organization that is not a current LSC grantee must also upload:

• The subrecipient's accounting manual (or letter indicating that the subrecipient does not have one and why);

• The subrecipient's most recent audited financial statement (or letter indicating that the subrecipient does not have one and why);

• The subrecipient's most recent Form 990 filed with the IRS (or letter indicating that the subrecipient does not have one and why);

• The subrecipient's current fidelity bond coverage (or letter indicating that the subrecipient does not have one);

• The subrecipient's conflict of interest policy (or letter indicating that the subrecipient does not have one); and

• The subrecipient's whistleblower policy (or letter indicating that the subrecipient does not have one).

LSC's Subgrant Agreement Template and Application Forms B, and C are available on LSC's website at http://www.lsc.gov/grants-grantee-resources/grantee-guidance/how-apply-subgrant.

LSC encourages applicants to use LSC's Subgrant Agreement Template as a model subgrant agreement. If the applicant does not use LSC's Template, the proposed agreement must include, at a minimum, the substance of the provisions of the Template.

Once submitted, LSC will evaluate the application and provide applicants with instructions on any needed modifications to the information, documents, or Draft Agreement provided with the application. The applicant must then upload a final and signed subgrant agreement through LSC Grants. This can be done by selecting “Upload Signed Agreement” to the right of the application “Status” under the “Subgrant” heading on an applicant's LSC Grants home page.

As required by 45 CFR 1627.4(b)(3), LSC will inform applicants of its decision to disapprove, approve, or request modifications to the subgrant by no later than the subgrant's proposed effective date.

Dated: April 20, 2018.
Stefanie Davis,
Assistant General Counsel.

[FR Doc. 2018-08710 Filed 4-25-18; 8:45 am]

BILLING CODE 7050-01-P